ENVIRONMENTAL PROTECTION AGENCY

40 CFR Part 52

[EPA-R06-OAR-2015-0189; FRL-9944-42-Region 6]

Promulgation of Implementation Plans; Arkansas; Regional Haze and Interstate Visibility Transport Federal Implementation Plan; Reopening of Comment Period and Notice of Availability

AGENCY: Environmental Protection Agency (EPA).

ACTION: Proposed rule; reopening of comment period; availability of supplemental information.

SUMMARY: The Environmental Protection Agency (EPA) is reopening the comment period for a proposed rule to establish a Clean Air Act (CAA) Federal Implementation Plan (FIP) to address regional haze and visibility transport requirements for the State of Arkansas. The reopening of the comment period is strictly limited to EPA's calculations of revised RPGs for Arkansas' Class I areas, which are presented in a supporting document being made available at this time in the docket. EPA is reopening the public comment period until May 4, 2016.

DATES: The comment period for the proposed rule published on April 8, 2015 (80 FR 18944), extended at 80 FR 24872 (July 15, 2015), and reopened at 80 FR 43661 (July 23, 2015), is again reopened. Written comments must be received on or before May 4, 2016.

ADDRESSES: Submit your comments, identified by Docket No. EPA-R06-OAR-2015-0189, at http://www.regulations.gov or via email to donaldson.guy@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact Dayana Medina, 214-665-7241, medina.dayana@epa.gov. For the full EPA public comment policy, information about CBI or multimedia submissions, and general guidance on making effective comments, please visit http://www2.epa.gov/dockets/commenting-epa-dockets.

Docket: The index to the docket for this action is available electronically at www.regulations.gov and in hard copy at the EPA Region 6, 1445 Ross Avenue, Suite 700, Dallas, Texas. While all documents in the docket are listed in the index, some information may be publicly available only at the hard copy location (e.g., copyrighted material), and some may not be publicly available at either location (e.g., CBI).

FOR FURTHER INFORMATION CONTACT: Dayana Medina, (214) 665-7241; medina.dayana@epa.gov. To inspect the hard copy materials, please schedule an appointment with Dayana Medina or Mr. Bill Deese at 214-665-7253.

SUPPLEMENTARY INFORMATION: On April 8, 2015, we published in the Federal Register a proposal to establish a FIP for the State of Arkansas addressing regional haze and visibility transport (80 FR 18944). The proposed FIP includes emission limits for sources in Arkansas. Comments on the proposed rule were required to be received by May 16, 2015. On May 1, 2015, we extended the comment period to July 15, 2015 (80 FR 24872). On July 23, 2015, we reopened the comment period until August 7, 2015 (80 FR 43661), in response to a request we received for an extension of the comment period.

We are announcing the availability in the docket of supplemental information we relied on in our Arkansas FIP proposal, but which was inadvertently omitted from the docket at the time we proposed the FIP. In our proposed rule published on April 8, 2015, we proposed revised RPGs for the 20% worst days for Arkansas' Class I areas, the Caney Creek and Upper Buffalo Wilderness Areas (80 FR at 18998). Our revised RPGs and our methodology for calculating the revised RPGs were discussed in detail in our proposal and in our technical support documentation,¹ which was made available in the docket when the proposed rule was published on April 8, 2015. However, a spreadsheet containing the actual calculations of our revised RPGs was inadvertently omitted from the docket. Therefore, the reopening of the comment period is strictly limited to our calculations of the revised RPGs, as presented in the spreadsheet we are making available at this time in the docket. The reopening of the comment period does not apply to our general methodology for calculating the revised RPGs, to the numerical values of the revised RPGs, or to any other aspects or portions of our proposed rule, for which we have previously provided opportunity for public comment. This action will allow interested persons time to prepare and submit comments on our calculations of the revised RPGs, as presented in the spreadsheet that we are making available in the docket at this time.

¹ See “Technical Support Document for EPA's Proposed Action on the Arkansas Regional Haze Federal Implementation Plan” at page 147.

List of Subjects in 40 CFR Part 52

Environmental protection, Air pollution control, Best available control technology, Incorporation by reference, Intergovernmental relations, Interstate transport of pollution, Nitrogen dioxide, Ozone, Particulate matter, Reporting and recordkeeping, requirements, Sulfur dioxides, Regional haze, Visibility.

Authority: 42 U.S.C. 7401 et seq.

Dated: March 23, 2016.
Lisa Price,
Acting Director, Multimedia Planning and Permitting Division, Region 6.

[FR Doc. 2016-07486 Filed 4-1-16; 8:45 am]

BILLING CODE 6560-50-P